DEPARTMENT OF HOMELAND SECURITY

Transportation Security Administration

New Emergency Agency Information Collection Activity Under OMB Review: Office of Law Enforcement/Federal Air Marshal Service (OLE/FAM) Mental Health Certification

AGENCY: Transportation Security Administration, DHS.

ACTION: Notice of emergency clearance request.

SUMMARY: This Notice announces that the Transportation Security Administration (TSA) will forward the new Information Collection Request (ICR) abstracted below to the Office of Management and Budget (OMB) for emergency processing and approval under the Paperwork Reduction Act. The ICR describes the nature of information collection and its expected burden.

DATES: Send your comments by January 4, 2007. A comment to OMB is most effective if OMB receives it within 30 days of publication.

ADDRESSES: Interested persons are invited to submit written comments on the proposed information collection to the Office of Information and Regulatory Affairs, Office of Management and Budget. Comments should be addressed to Nathan Lesser, Desk Officer, Department of Homeland Security/TSA, and sent via electronic mail to oira_submission@omb.eop.gov or faxed to (202) 395-6974.

FOR FURTHER INFORMATION CONTACT: Katrina Kletzly, Attorney-Advisor, Office of the Chief Counsel, TSA-2, Transportation Security Administration, 601 South 12th Street, Arlington, VA 22202-4220; telephone (571) 227-1995; facsimile (571) 227-1381.

SUPPLEMENTARY INFORMATION:

Comments Invited

In accordance with the Paperwork Reduction Act of 1995 (44 U.S.C. 3501 et seq.), an agency may not conduct or sponsor, and a person is not required to respond to, a collection of information unless it displays a valid OMB control number. Therefore, in preparation for OMB review and approval of the following information collection, TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques or other forms of information technology.

Information Collection Requirement

Title: Office of Law Enforcement/Federal Air Marshal Service Mental Health Certification.

Type of Request: Emergency processing request of new collection.

OMB Control Number: Not yet assigned.

Forms(s): Mental Health Certification.

Affected Public: Office of Law Enforcement/Federal Air Marshal Service applicants.

Abstract: Pursuant to 49 U.S.C. 44901, 44903, and 44917, TSA has authority to prescribe regulations to protect passengers and property on an aircraft operating in air transportation or intrastate air transportation against an act of criminal violence or aircraft piracy, provide for deployment of Federal Air Marshals (FAMs) on passenger flights, and provide for appropriate training, supervision, and equipment of FAMs. In furtherance of this authority, TSA policy requires that applicants for Office of Law Enforcement/Federal Air Marshal positions meet certain medical standards, including Federal Aviation Administration second-class airman standards as outlined in 14 CFR part 67. The TSA modifications to these standards include a psychological evaluation to determine that the individual does not have an established medical history or clinical diagnosis of psychosis, neurosis, or any other personality or mental disorder that clearly demonstrates a potential hazard to the performance of FAM duties or the safety of self or others. As part of the psychological evaluation, applicants will be required to complete a certification regarding their mental health history and provide an explanation for anything they cannot certify. Applicants will be asked whether they can certify various statements including that they have never been removed from work for medical or psychological reasons. Applicants will be instructed to submit this form directly to the FAMS Medical Programs for initial screening via fax, mail, or in person. Any explanations received will generally require further review and follow-up by a contract psychologist or psychiatrist. This certification is carefully geared to capitalize on other elements of the assessment process, such as personal interviews, physical task assessment, background investigation, as well as the other components of the medical examination and assessment.

Number of Respondents: 10,000.

Estimated Annual Burden Hours: An estimated 10,000 hours annually.

Issued in Arlington, Virginia, on November 30, 2006.
Lisa Dean,
Privacy Officer.

[FR Doc. E6-20550 Filed 12-4-06; 8:45 am]

BILLING CODE 9110-05-P